DEPARTMENT OF HEALTH AND HUMAN SERVICES

Centers for Disease Control and Prevention (CDC)

Meetings of the Advisory Committee for Injury Prevention and Control (ACIPC), and Its Subcommittee, the Science and Program Review Subcommittee (SPRS or the Subcommittee)

In accordance with Section 10(a)(2) of the Federal Advisory Committee Act (Pub. L. 92-463), the Centers for Disease Control and Prevention announces the following meetings of the aforementioned subcommittee and committee.

Name: Science and Program Review Subcommittee.

Times and Date:

10:30 a.m.-10:45 a.m., April 30, 2007 (Open).

10:45 a.m.-2 p.m., April 30, 2007 (Closed).

Place: Koger Center, Vanderbilt Building, Room 1004 A/B, 2939 Flowers Road, South, Atlanta, GA 30341.

Purpose: The SPRS provides advice on the needs, structure, progress and performance of programs of the National Center for Injury Prevention and Control (NCIPC).

Matters to be Discussed: The subcommittee will meet April 30, 2007, to provide a secondary review of, discuss, and evaluate grant applications and cooperative agreements received in response to three Request for Applications (RFAs) related to the following individual research grant and cooperative agreement applications: 07001, Grants for Injury Control Research Centers; 07009, Dissertation Grant Awards for Doctoral Candidates for Violence-Related Injury Prevention Research in Minority Communities; and 07010, Research for Preventing Violence-Related Injury. In addition, the ACIPC will meet via teleconference on April 30, 2007, to vote on the recommendations of the SPRS regarding the RFAs.

Agenda items are subject to change as priorities dictate.

Name: Advisory Committee for Injury Prevention and Control.

Times and Date:

3 p.m.-3:15 p.m., April 30, 2007 (Open).

3:15 p.m.-4:30 p.m., April 30, 2007 (Closed).

Place: Koger Center, Vanderbilt Building, Room 1004 A/B, 2939.

Purpose: The committee advises and makes recommendations to the Secretary, Department of Health and Human Services, the Director, CDC, and the Director, NCIPC, regarding feasible goals for the prevention and control of injury. The committee makes recommendations regarding policies, strategies, objectives, and priorities, and reviews progress toward injury prevention and control.

Matters to be Discussed: Agenda items for the open portion include the call to order and introductions and request for public comments. Beginning at 3:15 p.m., April 30, 2007, through 4:30 p.m, during the closed portion, the Committee will vote on the results of the secondary review. This portion of the meeting will be closed to the public in accordance with the provisions set forth in section 552b(c)(4) and (b), title 5 U.S.C., and the Determination of the Acting Director, Management Analysis and Services Office, CDC pursuant to Pub L. 92-463.

Agenda items are subject to change as priorities dictate.

Contact Person for More Information: Ms. Amy Harris, Executive Secretary, ACIPC, NCIPC, CDC, 4770 Buford Highway, NE., M/S K61, Atlanta, Georgia 30341-3724, telephone (770) 488-4936.

The Director, Management Analysis and Services Office, has been delegated the authority to sign Federal Register notices pertaining to announcements of meetings and other committee management activities, for both CDC and the Agency for Toxic Substances and Disease Registry.

Dated: March 26, 2007.
Elaine L. Baker,
Acting Director, Management Analysis and Services Office, Centers for Disease Control and Prevention.

[FR Doc. E7-6037 Filed 3-30-07; 8:45 am]

BILLING CODE 4163-18-P